DEPARTMENT OF TRANSPORTATION

National Highway Traffic Safety Administration

[Docket No. NHTSA-2012-0008; Notice 1]

OSRAM SYLVANIA Products Inc., Receipt of Petition for Decision of Inconsequential Noncompliance

AGENCY: National Highway Traffic Safety Administration, DOT.

ACTION: Receipt of Petition.

SUMMARY: OSRAM SYLVANIA Products, Inc.¹ (OSRAM) has determined that certain Type HB2 replaceable light sources, manufactured between September 25, 2011, and October 8, 2011, do not fully comply with paragraph S7.7 of Federal Motor Vehicle Safety Standard (FMVSS) No. 108, Lamp, Reflective Devices, and Associated Equipment. OSRAM has filed an appropriate report dated November 23, 2011 ², pursuant to 49 CFR part 573, Defect and Noncompliance Responsibility and Reports.

¹ OSRAM SYLVANIA Products Inc., is a manufacturer of motor vehicle replacement equipment and is registered under the laws of the state of Delaware.

² OSRAM submitted an amended version of the report on January 6, 2012.

Pursuant to 49 U.S.C. 30118(d) and 30120(h) (see implementing rule at 49 CFR part 556), OSRAM submitted a petition for an exemption from the notification and remedy requirements of 49 U.S.C. Chapter 301 on the basis that this noncompliance is inconsequential to motor vehicle safety.

This notice of receipt of OSRAM's petition is published under 49 U.S.C. 30118 and 30120 and does not represent any agency decision or other exercise of judgment concerning the merits of the petition.

Equipment involved: Affected are approximately 40,544 Type HB2 replaceable light sources that were manufactured by OSRAM Sylvania Products, Inc., between September 25, 2011, and October 8, 2011.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject Type HB2 replaceable light sources that OSRAM no longer controlled at the time it determined that the noncompliance existed.

Noncompliance: OSRAM explains that the noncompliance is due to an error in the production facility. Certain Type HB2 replaceable light sources were produced with an incorrect upper beam filament wire which results in an upper beam luminous flux outside (below) the specifications as required in paragraph S7.7 of FMVSS No. 108.

Rule text: Paragraph S7.7 of FMVSS No. 108 requires in pertinent part:

S7.7 Each replaceable light source shall be designed to conform to the dimensions and electrical specifications furnished with respect to it pursuant to part 564 of this chapter, and shall conform to the following requirements:* * *

Summary of OSRAM's Analysis and Arguments:

OSRAM stated its belief that although the subject Type HB2 replaceable light source may not meet the required luminous flux specifications the noncompliance is inconsequential to motor vehicle safety. OSRAM came to this conclusion based on the following results of testing that it conducted on a large sample of lamps using the subject noncompliant Type HB2 replaceable light sources:

(1) In half of the vehicle/lamp applications, the upper beam photometry specified for HB2 lamps will continue to be met,

(2) in the remaining applications, the photometry performance falls just below the specified minimums for HB2 lamps (and in no more than three, but typically just one or two, test points on a per-measured headlamp basis), and

(3) all lamps using the noncompliant bulbs perform at or above the upper beam photometry requirements of other lamp types, such as HB1 and HB5, that are currently permitted by FMVSS 108 and in prevalent use on U.S. roads.

OSRAM also stated that the issue that caused the subject noncompliance has been corrected at the production facility and all products currently being shipped meet the applicable requirements.

In summation, OSRAM believes that the described noncompliance of its Type HB2 replaceable light sources to meet the requirements of FMVSS No. 108 is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: May 9, 2012.

Authority: (49 U.S.C. 30118, 30120: delegations of authority at CFR 1.50 and 501.8)

Issued on: April 2, 2012.
Claude H. Harris,
Director, Office of Vehicle Safety Compliance.

[FR Doc. 2012-8460 Filed 4-6-12; 8:45 am]

BILLING CODE 4910-59-P